ENVIRONMENTAL PROTECTION AGENCY

[EPA-HQ-OECA-2006-0445; FRL-8259-2]

Agency Information Collection Activities: Submission to OMB for Review and Approval; Comment Request: NESHAP for Site Remediation (Renewal); EPA ICR Number 2062.03, OMB Control Number 2060-0534

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. The ICR which is abstracted below, describes the nature of the information collection and its expected burden and cost.

DATES: Additional comments may be submitted on or before January 22, 2007.

ADDRESSES: Submit your comments, referencing docket ID number EPA-HQ-OECA-2006-0445, to (1) EPA online using http://www.regulations.gov (our preferred method), by e-mail to docket.oeca@epa.gov, or by mail to: EPA Docket Center (EPA/DC), Environmental Protection Agency, Enforcement and Compliance Docket and Information Center, mail code 2201T, 1200 Pennsylvania Avenue, NW., Washington DC 20460, and (2) OMB by mail to: Office of Information and Regulatory Affairs, Office of Management and Budget (OMB), Attention Desk Officer for EPS, 725 17th Street, NW., Washington, DC 20503.

FOR FURTHER INFORMATION CONTACT: For questions about this ICR, contact Zofia Kosim, Air Enforcement Division, Office Civil Enforcement, Mail Code 2242A, Environmental Protection Agency, 1200 Pennsylvania Avenue, NW., Washington, DC 20460; phone number: (202) 564-8733; fax number: (202) 564-0068; e-mail address: kosim.zofia@epa.gov. Refer to EPA ICR Number 2062.03.

SUPPLEMENTARY INFORMATION: EPA has submitted the following ICR to OMB for review and approval according to the procedures prescribed in 5 CFR 1320.12. On June 21, 2006, (71 FR 35652), EPA sought comments on this ICR pursuant to 5 CFR 1320.8(d). EPA received no comments.

EPA has established a public docket for this ICR under docket ID number EPA-OECA-2006-0445, which is available for public viewing online at http://www.regulations.gov, in person viewing at the Enforcement and Compliance Docket and Information Center in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1927.

Use EPA's electronic docket and comments system at http://www.regulations.gov to submit or view public comments, access the index listing of the contents of the public docket, and to access those documents in the public docket that are available electronically. Once in the system, select “search,” then key in the docket ID number identified above. Please note that EPA's policy that public comments, whether submitted electronically or in paper, will be made available for public viewing at http://www.regulations.gov, as EPA receives them and without change, unless the comment contains copyrighted material, CBI, or other information whose public disclosure is restricted by statute. For further information about the electronic docket, go to http://www.regulations.gov.

Title: NESHAP for Site Remediation (Renewal).

ICR Numbers: EPA ICR Number 2062.03, OMB Control Number 2060-0534.

ICR Status: This ICR is scheduled to expire on December 31, 2006. Under the OMB regulations, the Agency may continue to conduct or sponsor the collection of information while this submission is pending at OMB. An Agency may not conduct or sponsor, and a person is not required to respond to, a collection of information unless it displays a currently valid OMB control number. The OMB control number for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The Environmental Protection Agency (EPA) is required under section 111 of the Clean Air Act, as amended, to collect data. The information will be used by Agency enforcement personnel to (1) Identify existing sources subject to these standards; (2) ensure that Best Demonstrated Technology is being properly applied; and (3) ensure that the emission control devise is being properly operated and maintained on a continuous basis. In addition, records and reports are necessary to enable the EPA to identify those site remediation facilities that may not be in compliance with these standards. Based on reported information, the EPA can decide which facilities should be inspected and what records or processes should be inspected at the facilities. The records that site remediation facilities maintain would indicate to the EPA whether the personnel are operating and maintaining control equipment properly. The type of data required is principally emissions data (through parametric monitoring) and would not be confidential. If any information is submitted to the EPA for which a claim of confidentiality is made, the information would be safeguarded according to the Agency policies set forth in 40 CFR, chapter 1, part 2, subpart B.

Burden Statement: The annual public reporting and record keeping burden for this collection of information is estimated to average 219 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to respond to a collection of information; search data sources; complete and review the collection of information; and transmit or otherwise disclose the information.

Respondents/Affected Entities: Site remediation facilities.

Estimated Number of Respondents: 286.

Frequency of Response: On occasion and semiannually.

Estimated Total Annual Hour Burden: 125,027.

Estimated Total Annual Cost: $582,000 for operating and maintenance costs. There are no capital/startup costs associated with this ICR.

Change in Estimates: There is a decrease in hours in the total estimated burden currently identified in the OMB Inventory of Approved ICR Burdens. This decrease is not due to any program changes. Over the past three years, the respondents completed those activities required to achieve initial compliance. Such activities are more burdensome than the burden associated with the rule requirements for continuing compliance as addressed by this ICR. Hence, there is a decrease in burden.

Dated: December 13, 2006.
Oscar Morales,
Director, Collection Strategies Division.

[FR Doc. E6-21892 Filed 12-20-06; 8:45 am]

BILLING CODE 6560-50-P